DEPARTMENT OF ENERGY

Federal Energy Regulatory Commission

[Docket No. RP00-267-002]

ANR Pipeline Company; Notice of Proposed Change in FERC Gas Tariff

November 6, 2000.

Take notice that on October 31, 2000, ANR Pipeline Company (ANR) tendered for filing as part of FERC Gas Tariff, Second Revised Volume No. 1, the following revised tariff sheet to be effective November 1, 2000.

Substitute Twenty-Eighth Revised Sheet No. 17

ANR states that the filing is being filed in compliance with the Commission's order dated May 31, 2000 at Docket No. RP00-267-000, See ANR Pipeline Company, 91 FERC ¶61,195. The Commission's order approved but suspended the effective date of ANR's proposed cashout price surchange from June 1, 2000 until November 1, 2000.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-28939 Filed 11-9-00; 8:45 am]

BILLING CODE 6717-01-M